DEPARTMENT OF STATE

[Public Notice: 11175]

Determination Pursuant to the Foreign Missions Act

Pursuant to the authority vested in the Secretary of State by the laws of the United States including the Foreign Missions Act (22 U.S.C. 4301 et seq.) and delegated from the Under Secretary for Management pursuant to the Delegation of Authority No. 484, dated May 26, 2020, I hereby determine under section 22 U.S.C. 4305(b) that to protect the interests of the United States, it is necessary to require the People's Republic of China to forego use of the following real properties as of the times and dates listed below:

1. 3417 Montrose Boulevard, Houston, TX, beginning 4:00 p.m. Central Daylight Time on July 24, 2020;

2. 811 Holman Street, Houston, TX, beginning 4:00 p.m. Central Daylight Time on July 24, 2020;

3. 7600 Almeda Road, Houston, TX, beginning 4:00 p.m. Central Daylight Time on August 23, 2020.

For purposes of this determination the real property locations listed above include any buildings and/or improvements thereon and the land ancillary thereto.

Use of the specified properties after the above-listed dates is subject to terms and conditions as specified by the Department's Office of Foreign Missions, until such time as arrangements are made for their final disposition.

Clifton C. Seagroves,
Principal Deputy Director, Office of Foreign Missions, Department of State.

[FR Doc. 2020-17051 Filed 8-4-20; 8:45 am]

BILLING CODE 4710-43-P